DEPARTMENT OF ENERGY

Federal Energy Regulatory Commission

[Project No. P-1256-031]

Loup River Hydroelectric Project; Notice of Technical Meeting

a. Project Name and Number: Loup River Hydroelectric Project No. 1256.

b. Date and Time of Meeting: September 30, 2015; 2:00 p.m. Eastern Time (1:00 p.m. Central Time).

c. Place: Telephone conference with U.S. Fish and Wildlife Service (FWS).

d. FERC Contact: Chelsea Hudock, chelsea.hudock@ferc.gov or (202) 502-8448.

e. Purpose of Meeting: To discuss the FWS revisions, filed on August 12, 2015, to its Incidental Take Statement regarding threatened and endangered species affected by the proposed Loup River Hydroelectric Project (project), the effects of the proposed project on the endangered whooping crane, and a timeframe by which we would provide the FWS with our evaluation of the project effects on the Northern long-eared bat and the red knot.

f. A summary of the meeting will be prepared and filed in the Commission's public file for the project.

g. All local, state, and federal agencies, Indian tribes, and other interested parties are invited to participate by phone. Please contact Chelsea Hudock at chelsea.hudock@ferc.gov or (202) 502-8448 by close of business September 22, 2015, to R.S.V.P. and to receive specific instructions on how to participate.

Dated: September 9, 2015.
Kimberly D. Bose,
Secretary.

[FR Doc. 2015-23150 Filed 9-14-15; 8:45 am]

BILLING CODE 6717-01-P